INTERNATIONAL TRADE COMMISSION

[Investigation No. 731-TA-1333 (Final)]

Finished Carbon Steel Flanges From Spain

Determination

On the basis of the record ¹ developed in the subject investigation, the United States International Trade Commission (“Commission”) determines,² pursuant to the Tariff Act of 1930 (“the Act”), that an industry in the United States is materially injured by reason of imports of finished carbon steel flanges from Spain, provided for in subheading 7307.91.50 of the Harmonized Tariff Schedule of the United States, that have been found by the Department of Commerce (“Commerce”) to be sold in the United States at less than fair value (“LTFV”).

¹ The record is defined in sec. 207.2(f) of the Commission's Rules of Practice and Procedure (19 CFR 207.2(f)).

² Commissioner F. Scott Kieff did not participate in the vote.

Background

The Commission, pursuant to section 735(b) of the Act (19 U.S.C. 1673d(b)), instituted this investigation effective June 30, 2016, following receipt of a petition filed with the Commission and Commerce by Weldbend Corporation, Argo, Illinois and Boltex Mfg. Co., L.P., Houston, Texas. The final phase of this investigation was scheduled by the Commission following notification of a preliminary determination by Commerce that imports of finished carbon steel flanges from Spain were sold at LTFV within the meaning of 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register on February 17, 2017 (82 FR 11056). The hearing was held in Washington, DC, on April 25, 2017, and all persons who requested the opportunity were permitted to appear in person or by counsel.

The Commission made this determination pursuant to section 735(b) of the Act (19 U.S.C. 1673d(b)). It completed and filed its determination in this investigation on June 7, 2017. The views of the Commission are contained in USITC Publication 4696 (June 2017), entitled Finished Carbon Steel Flanges from Spain: Investigation No. 731-TA-1333 (Final).

By order of the Commission.
Issued: June 7, 2017.
Lisa R. Barton,
Secretary to the Commission.

[FR Doc. 2017-12159 Filed 6-12-17; 8:45 am]

BILLING CODE 7020-02-P